DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Application for Certificate to Employ Homeworkers, WH-46, Piece Rate Measurements, and Homeworker Handbook (WH-75). A copy of the proposed information collection request can be obtained by contacting the office listed below in the addresses section of this Notice.

DATES: Written comments must be submitted to the office listed in the addresses section below on or before May 19, 2003.

ADDRESSES: Ms. Hazel M. Bell, U.S. Department of Labor, 200 Constitution Ave., NW., Room S-3201, Washington, DC 20210, telephone (202) 693-0418, fax (202) 693-1451, e-mail hbell@fenix2.dol-esa.gov. Please use only one method of transmission for comments (mail, fax, or e-mail).

SUPPLEMENTARY INFORMATION I. Background: Section 11(d) of the Fair Labor Standards Act (FLSA) authorizes the Secretary of Labor to regulate, restrict, or prohibit industrial homework as necessary to prevent evasion of the minimum requirements of the Act. Restrictions exist on seven homework industries, (knitted outerwear, women's apparel, jewelry manufacturing, gloves and mittens, button and buckle manufacturing, handkerchief manufacturing, and embroideries). Homework in these industries is permitted only in certain hardship cases. Homework is permitted under FLSA in all other industries, provided the employer maintains homeworker handbooks for such employees who record hours of work and certain other required payroll information. Further, employers of homeworkers in certain restricted industries must first obtain a certification from the Department of Labor authorizing the employment of such workers. Employers in the restricted industries under the certification program who pay workers based on piece rates must maintain documentation of the work measurements used to establish such piece rates and the circumstances under which measurements were conducted. This information collection is currently approved for use through September 30, 2003.

II. Review Focus: The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility and clarity of the information to be collected; and

* Minimize the burden of the collection of information on those who are to respond, including through the use of appropriate automated, electronic, mechanical, or other technological collection techniques or other forms of information technology, e.g., permitting electronic submissions of responses.

III. Current Actions: The Department of Labor seeks approval for the extension of this information collection in order to assure compliance with the FSLA in homework employment.

Type of Review: Extension.

Agency: Employment Standards Administration.

Title: Application to Employ Homeworkers.

OMB Number: 1215-0013.

Agency Number: WH-46 and WH-75.

Affected Public: Business of other for-profit; Individuals or households; Not-for-profit institutions.

Total Respondents (Recordkeeping and Reporting): 4,650.

Total Responses (Recordkeeping and Reporting): 18,575.

Time per Response: 30 minutes.

Frequency: On Occasion.

Estimated Total Burden Hours (Recordkeeping and Reporting): 9,517.

Total Burden Cost (capital/startup): $0.

Total Burden Cost (operating/maintenance): $0.

Title | Form No. | Number of respondents | Number of responses | Avg. time per responses (min) | Burden hr(s)
Application To Employ Homeworkers | WH-46 | 50 | 25 | 30 | 12.5
Homeworker Handbooks | WH-75 | 4,600 | 18,400 | 30 | 9,200

Recordkeeping Burden
Title | Number of recordkeepers | Number of records | Avg. time per response (min) | Burden hours
Piece Rate Measurement | 50 | 150 | 60½ | 151.25
Homeworker Handbooks | 1,150 | 18,400 | ½ | 153

Comments submitted in response to this notice will be summarized and/or included in the request for Office of Management and Budget approval of the information collection request; they will also become a matter of public record.

Dated: March 13, 2003.
Bruce Bohanon,
Chief, Branch of Management Review and Internal Control, Division of Financial Management, Office of Management, Administration and Planning, Employment Standards Administration.

[FR Doc. 03-6558 Filed 3-18-03; 8:45 am]

BILLING CODE 4510-27-P